DEPARTMENT OF THE INTERIOR

National Park Service

[NPS-WASO-NAGPRA-NPS0033091; PPWOCRADN0-PCU00RP14.R50000]

Notice of Inventory Completion: University of Colorado Museum, Boulder, CO

AGENCY: National Park Service, Interior.

ACTION: Notice.

SUMMARY: The University of Colorado Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of Colorado Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of Colorado Museum at the address in this notice by January 10, 2022.

FOR FURTHER INFORMATION CONTACT: Dr. Samantha G. Fladd, University of Colorado Museum, 1030 Broadway, Boulder, CO 80309, telephone (303) 492-6671, email samantha.fladd@colorado.edu.

SUPPLEMENTARY INFORMATION: Notice is here given in accordance with the Native American Graves Protection and Repatriation Act (NAGPRA), 25 U.S.C. 3003, of the completion of an inventory of human remains and associated funerary objects under the control of the University of Colorado Museum, Boulder, CO. The human remains and associated funerary objects were removed from Montezuma County and La Plata County, CO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Colorado Museum professional staff in consultation with representatives of the Hopi Tribe of Arizona; Navajo Nation, Arizona, New Mexico, & Utah; Ohkay Owingeh, New Mexico [previously listed as Pueblo of San Juan]; Pueblo of Acoma, New Mexico; Pueblo of Isleta, New Mexico; Pueblo of Laguna, New Mexico; Pueblo of Pojoaque, New Mexico; Pueblo of San Ildefonso, New Mexico; Pueblo of Sandia, New Mexico; Pueblo of Santa Ana, New Mexico; Pueblo of Santa Clara, New Mexico; Pueblo of Tesuque, New Mexico; Southern Ute Indian Tribe of the Southern Ute Reservation, Colorado; Ute Mountain Ute Tribe [previously listed as Ute Mountain Tribe of the Ute Mountain Reservation, Colorado, New Mexico, & Utah); and the Ysleta del Sur Pueblo [previously listed as Ysleta Del Sur Pueblo of Texas]. The Pueblo of Cochiti, New Mexico; Pueblo of Jemez, New Mexico; Pueblo of Nambe, New Mexico; Pueblo of Picuris, New Mexico; Pueblo of San Felipe, New Mexico; Pueblo of Taos, New Mexico; Pueblo of Zia, New Mexico; Santo Domingo Pueblo [previously listed as Kewa Pueblo, New Mexico, and Pueblo of Santo Domingo]; and the Zuni Tribe of the Zuni Reservation, New Mexico were invited to consult but did not participate. Hereafter all Indian Tribes listed in this section are referred to as “The Consulted and Invited Tribes”.

History and Description of the Remains

At an unknown date, human remains representing, at minimum, one individual were removed from an unknown site in La Plata County, CO. In May 1961, they were purchased by the University of Colorado Museum from Gervis W. Hoofnagle and cataloged into the museum collection (catalog number 22264). Based on museum records, the human remains were collected near Durango, CO. Based on Mr. Hoofnagle's notebook entries and osteological analysis at the Metropolitan State University Human Identification Lab, the human remains are Native American. Based on Mr. Hoofnagle's notebook entries, the human remains are reasonably believed to be Puebloan. The human remains represent one adult, probably male. No known individual was identified. No associated funerary objects are present.

Sometime between 1915 and 1935, human remains representing, at minimum, one individual were removed from a site one-half mile south of Durango, CO, in La Plata County, CO, by Earl H. Morris of the University of Colorado Museum. They were cataloged into the museum collection (catalog number 08546). Based on the acquisition date, museum records, and osteological analysis at the Metropolitan State University Human Identification Lab, the human remains are reasonably believed to be Native American. Based on provenience, site architecture, and ceramics recorded at the site dating to the Basketmaker III or Pueblo I time period, approximately A.D. 550-900, the human remains are reasonably believed to be Puebloan. The human remains represent one adult, probably female. No known individual was identified. The one associated funerary object is one bag of beads, cordage, soil, and nonhuman skeletal elements.

Between 1954 and 1966, human remains representing, at minimum, three individuals (catalog numbers 09130, 09894, 17445) were removed from two sites near Yellow Jacket Pueblo (5MT1 and 5MT3), Montezuma County, CO, during legally conducted excavations by Dr. Joe Ben Wheat with students participating in archeological field schools sponsored by the University of Colorado Museum. The human remains and associated funerary objects were physically transferred to the museum at the end of each field season. Based on osteological analysis at the Metropolitan State University Human Identification Lab and museum documentation, the human remains originating from Yellow Jacket sites represent three adults (one female and two of indeterminate sex), and are reasonably believed to be Native American. No known individuals were identified. The six associated funerary objects are one lot of pottery sherds (catalog number 09034), one Olivella shell necklace (catalog number 09036), one lot of groundstone (catalog number 11454), and three lots of faunal remains (catalog numbers 17444, 17445 and 17446.1).

The habitation sites (identified on the National Register of Historic Places as the Joe Ben Wheat Site Complex), are situated at the head of Yellow Jacket Canyon to the west of Tatum Draw and southwest of the very large archeological site, Yellow Jacket Pueblo (5MT5). The Yellow Jacket burials were predominantly single interments, appearing in a wide variety of locations, including unoccupied rooms and kivas, storage pits, subfloor burial pits, extramural burial pits, and middens.

The site complex was occupied at various times during the Basketmaker III, Pueblo II, and Pueblo III periods, approximately A.D. 550-1250, with a hiatus in occupation during the Pueblo I period, A.D. 750-900. Based on the general continuity in the material culture and architecture of these sites, it appears that the community that lived in this area had long-standing ties to the region and returned to the sites even after migrations away from the locale that lasted more than one hundred years. However, by the late 13th century, both the Yellow Jacket sites and the nearby Mesa Verde region showed no evidence of human habitation. The sites were not used again until the late 1920s when the locale was homesteaded and farmed.

All individuals listed in this Notice of Inventory Completion are reasonably believed to be Puebloan based on the provenience, acquisition, museum collecting history, excavator history, and associated documentation. Based on a preponderance of evidence, a shared group identity can be traced between Puebloan peoples and modern Puebloan groups, based on oral tradition, historical evidence, folkloric, archeological, geographical, linguistic, kinship, and scientific studies. On file at the University of Colorado Museum is oral-tradition evidence, which consists of migration stories, clan histories, and origin stories provided by the Hopi Tribe of Arizona; Ohkay Owingeh, New Mexico [previously listed as Pueblo of San Juan]; Pueblo of Acoma, New Mexico; Pueblo of Isleta, New Mexico; Pueblo of Jemez, New Mexico; Pueblo of Laguna, New Mexico; Pueblo of Nambe, New Mexico; Pueblo of Pojoaque, New Mexico; Pueblo of San Ildefonso, New Mexico; Pueblo of Santa Ana, New Mexico; Pueblo of Santa Clara, New Mexico; Pueblo of Taos, New Mexico; Pueblo of Tesuque, New Mexico; Pueblo of Zia, New Mexico; Ysleta del Sur Pueblo [previously listed as Ysleta Del Sur Pueblo of Texas]; and the Zuni Tribe of the Zuni Reservation, New Mexico. The Museum also has on file linguistic evidence rooted in place names that has been provided by the Pueblo of Acoma, New Mexico; Pueblo of Nambe, New Mexico; Pueblo of San Ildefonso, New Mexico; and the Pueblo of Taos, New Mexico. The Museum also has on file archeological evidence based on architecture and material culture provided by the Pueblo of Cochiti, New Mexico; Pueblo of Nambe, New Mexico; Pueblo of San Ildefonso, New Mexico; and the Pueblo of Santa Clara, New Mexico.

According to scientific studies and oral tradition evidence including migration stories, clan histories, and origin stories, the Navajo share some cultural practices with modern Pueblo peoples. The Navajo emphasize their long presence in the Four Corners and their origin in this area, but there is not a preponderance of evidence to support Navajo cultural affiliation to the human remains described in this notice.

Determinations Made by the University of Colorado Museum

Officials of the University of Colorado Museum have determined that:

• Pursuant to 25 U.S.C. 3001(9), the human remains described in this notice represent the physical remains of five individuals of Native American ancestry.

• Pursuant to 25 U.S.C. 3001(3)(A), the seven objects described in this notice are reasonably believed to have been placed with or near individual human remains at the time of death or later as part of the death rite or ceremony.

• Pursuant to 25 U.S.C. 3001(2), there is a relationship of shared group identity that can be reasonably traced between the Native American human remains and associated funerary objects and the Hopi Tribe of Arizona; Ohkay Owingeh, New Mexico [previously listed as Pueblo of San Juan]; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Santa Ana, New Mexico; Pueblo of Santa Clara, New Mexico; Pueblo of Taos, New Mexico; Pueblo of Tesuque, New Mexico; Pueblo of Zia, New Mexico; Santo Domingo Pueblo [previously listed as Kewa Pueblo, New Mexico, and Pueblo of Santo Domingo]; Ysleta del Sur Pueblo [previously listed as Ysleta Del Sur Pueblo of Texas]; and the Zuni Tribe of the Zuni Reservation, New Mexico (hereafter referred to as “The Tribes”).

Additional Requestors and Disposition

Lineal descendants or representatives of any Indian Tribe or Native Hawaiian organization not identified in this notice that wish to request transfer of control of these human remains and associated funerary objects should submit a written request with information in support of the request to Dr. Samantha G. Fladd, University of Colorado Museum, 1030 Broadway, Boulder, CO 80309, telephone (303) 492-6671, email samantha.fladd@colorado.edu, by January 10, 2022. After that date, if no additional requestors have come forward, transfer of control of the human remains and associated funerary objects to The Tribes may proceed.

The University of Colorado Museum is responsible for notifying The Consulted and Invited Tribes and The Tribes that this notice has been published.

Dated: December 3, 2021.
Melanie O'Brien,
Manager, National NAGPRA Program.

[FR Doc. 2021-26769 Filed 12-9-21; 8:45 am]

BILLING CODE 4312-52-P